DEPARTMENT OF TRANSPORTATION

Federal Aviation Administration

14 CFR Part 71

[Docket No. FAA-2022-0025; Airspace Docket No. 21-ACE-2]

RIN 2120-AA66

Amendment of Multiple Air Traffic Service (ATS) Routes and Establishment of Area Navigation (RNAV) Routes in the Vicinity of Liberal, KS

AGENCY: Federal Aviation Administration (FAA), DOT.

ACTION: Final rule.

SUMMARY: This action amends Jet Routes J-19, J-20, J-52, J-98, J-134, and J-231, RNAV route Q-176, and VHF Omnidirectional Range (VOR) Federal airways V-210, V-234, V-350, and V-507; and establishes RNAV routes T-418 and T-431. The FAA is taking this action due to the planned decommissioning of the VOR portion of the Liberal, KS (LBL), VOR/Tactical Air Navigation (VORTAC) navigational aid (NAVAID). The Liberal VOR is being decommissioned in support of the FAA's VOR Minimum Operational Network (MON) program.

DATES: Effective date 0901 UTC, September 8, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Policy Directorate, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking (NPRM) for Docket No. FAA-2022-0025 in the Federal Register (87 FR 5747; February 2, 2022), amending Jet Routes J-19, J-20, J-52, J-98, J-134, and J-231, RNAV route Q-176, and VOR Federal airways V-210, V-234, V-304, V-350, and V-507; and establishing RNAV routes T-418 and T-431. The proposed amendment and establishment actions were due to the planned decommissioning of the VOR portion of the Liberal, KS, VORTAC NAVAID. Interested parties were invited to participate in this rulemaking effort by submitting written comments on the proposal. No comments were received.

Jet Routes are published in paragraph 2004, RNAV Q-routes are published in paragraph 2006, VOR Federal airways are published in paragraph 6010(a), and United States RNAV T-routes are published in paragraph 6011 of FAA Order JO 7400.11F, dated August 10, 2021, and effective September 15, 2021, which is incorporated by reference in 14 CFR 71.1. The ATS routes listed in this document will be published subsequently in FAA Order JO 7400.11.

Differences From the NPRM

In the NPRM, the FAA proposed to amend V-304 by removing the airway segment overlying the Liberal VORTAC between the Borger, TX, VORTAC and the Lamar, CO, VOR/Distance Measuring Equipment (VOR/DME) NAVAIDs. Subsequent to the NPRM, the FAA published a rule for Docket No. FAA-2021-0821 in the Federal Register (87 FR 26985; May 6, 2022) removing V-304 in its entirety. The V-304 airway removal was effective July 14, 2022, and consequently removed from this docket.

Also, the NPRM proposed to establish T-431 between two new waypoints (WPs); the KENTO, NM, WP and the RREDD, KS, WP. However, the RREDD WP name had been reserved for use elsewhere within the NAS prior to being used for T-431 and required the WP name to be changed. As a result, the proposed T-431 route point named RREDD, KS, WP is being renamed the KNSAS, KS, WP. The latitude/longitude coordinates of the KNSAS WP remain the same as those used for the RREDD WP in the proposed T-431 route description, therefore this WP name change does not affect the proposed charted alignment of T-431. The RREDD, KS, WP name listed in the proposed T-431 description is changed to the KNSAS, KS, WP in this action.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by amending Jet Routes J-19, J-20, J-52, J-98, J-134, and J-231, RNAV route Q-176, and VOR Federal airways V-210, V-234, V-350, and V-507; and establishing RNAV routes T-418 and T-431. These amendment and establishment actions are due to the planned decommissioning of the VOR portion of the Liberal, KS, VORTAC. The ATS route actions are described below.

J-19: J-19 extends between the Phoenix, AZ, VORTAC and the Northbrook, IL, VOR/DME. The route segment between the Phoenix, AZ, VORTAC and the Zuni, NM, VORTAC is removed as it overlaps J-244, which remains. The route segment between the Zuni, NM, VORTAC and the Fort Union, NM, VORTAC is removed since J-244 provides a shorter, more efficient routing between the two NAVAIDs. The route segment between the Fort Union, NM, VORTAC and the Wichita, KS, VORTAC is removed due to the planned Liberal VOR decommissioning. Finally, the route segment between the Wichita, KS, VORTAC and the St. Louis, MO, VORTAC is removed as it overlaps J-134 completely and J-110 between the Butler, MO, VORTAC and St. Louis, MO, VORTAC. Collectively, the route segments between the Phoenix, AZ, VORTAC and the St. Louis, MO, VORTAC are removed. The unaffected portions of the existing route remain as charted.

J-20: J-20 extends between the Seattle, WA, VORTAC and the Montgomery, AL, VORTAC. The route segment overlying the Liberal VORTAC between the Lamar, CO, VOR/DME and the Will Rogers, OK, VORTAC is removed. The unaffected portions of the existing route remain as charted.

J-52: J-52 extends between the Vancouver, BC, Canada VOR/DME and the Vulcan, AL, VORTAC; and between the intersection of the Columbia, SC, VORTAC 042° and Flat Rock, VA, VORTAC 212° radials (TUBAS fix) and the Richmond, VA, VORTAC. The portion within Canada is excluded. The route segment overlying the Liberal VORTAC between the Lamar, CO, VOR/DME and the Ardmore, OK, VORTAC is removed. The unaffected portions of the existing route remain as charted.

J-98: J-98 extends between the Liberal, KS, VORTAC and the Farmington, MO, VORTAC. The route segment overlying the Liberal VORTAC between the Liberal, KS, VORTAC and the Mitbee, OK, VORTAC is removed. The unaffected portions of the existing route remain as charted.

J-134: J-134 extends between the Los Angeles, CA, VORTAC and the Falmouth, KY, VOR/DME. The route segment overlying the Liberal VORTAC between the Cimarron, NM, VORTAC and the Wichita, KS, VORTAC is removed. The unaffected portions of the existing route remain as charted.

J-231: J-231 extends between the Twentynine Palms, CA, VORTAC and the Liberal, KS, VORTAC. The route segment overlying the Liberal VORTAC between the Anton Chico, NM, VORTAC and Liberal, KS, VORTAC is removed. The unaffected portions of the existing route remain as charted.

Q-176: Q-176 extends between the Cimarron, NM, VORTAC and the OTTTO, VA, WP. The Liberal, KS, VORTAC and the Wichita, KS, VORTAC route points are replaced with the TOTOE, KS, WP and the WRIGL, KS, WP, respectively. The two new WPs are established in the immediate vicinity of the NAVAIDs they replace. Additionally, the GBEES, IN, route point is changed from “FIX” to “WP” to match the FAA's aeronautical database information and charted depiction. The unaffected portions of the existing route remain as charted.

V-210: V-210 extends between the Los Angeles, CA, VORTAC and the Okmulgee, OK, VOR/DME; between the Brickyard, IN, VORTAC and the Rosewood, OH, VORTAC; and between the Revloc, PA, VOR/DME and the Yardley, PA, VOR/DME. The airway segment overlying the Liberal VORTAC between the Lamar, CO, VOR/DME and the Will Rogers, OK, VORTAC is removed. The unaffected portions of the existing airway remain as charted.

V-234: V-234 extends between the St. Johns, AZ, VORTAC and the Centralia, IL, VORTAC. The airspace at and above 8,000 feet MSL between the Vichy, MO, VOR/DME and the intersection of the Vichy, MO, VOR/DME 091° and St. Louis, MO, VORTAC 171° radials is excluded when the Meramec Military Operations Area (MOA) is activated by NOTAM. The airway segment overlying the Liberal VORTAC between the Dalhart, TX, VORTAC and the Hutchinson, KS, VOR/DME is removed. Additionally, the Meramec MOA no longer exists; therefore, the exclusion language in the airway description is also removed. The unaffected portions of the existing airway remain as charted.

V-350: V-350 extends between the Liberal, KS, VORTAC and the Chanute, KS, VORTAC. The airspace at and above 6,000 feet MSL from 8 NM to 54 NM west of the Chanute VOR is excluded when the Eureka High MOA is activated. The airway segment overlying the Liberal VORTAC between the Liberal, KS, VORTAC and the Wichita, KS, VORTAC is removed. The unaffected portions of the existing airway remain as charted.

V-507: V-507 extends between the Ardmore, OK, VORTAC and the Garden City, KS, VORTAC. The airway segment overlying the Liberal VORTAC between the Mitbee, OK, VORTAC and the Garden City, KS, VORTAC is removed. The unaffected portions of the existing airway remain as charted.

T-418: T-418 is a new RNAV route extending between the Lamar, CO, VOR/DME and the Mitbee, OK, VORTAC. This T-route mitigates the removal of the V-210 airway segment between the Lamar, CO, VOR/DME and Liberal, KS, VORTAC and the removal of the V-507 airway segment between the Liberal, KS, VORTAC and Mitbee, OK, VORTAC. Additionally, this new T-route provides RNAV routing capability from the Lamar, CO, area, southeastward to the Gage, OK, area.

T-431: T-431 is a new RNAV route extending between two new WPs being established; the KENTO, NM, WP and the KNSAS, KS, WP. This T-route provides non-radar routing from northeastern New Mexico eastward to the Liberal, KS, VORTAC area to address frequent radar outages and support the general aviation community in the area, as well as RNAV routing between the Liberal, KS, VORTAC area and the Mankato, KS, VORTAC area. Additionally, this new T-route provides RNAV routing capability from northeastern New Mexico northeastward to the Mankato, KS, area.

All NAVAID radials listed in the ATS route descriptions below are unchanged and stated in True degrees.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of amending Jet Routes J-19, J-20, J-52, J-98, J-134, and J-231, RNAV route Q-176, and VOR Federal airways V-210, V-234, V-350, and V-507; and establishing RNAV routes T-418 and T-431, due to the planned decommissioning of the Liberal, KS, VOR NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 2004 Jet Routes.

* * * * *

J-19 [Amended]

From St. Louis, MO; Roberts, IL; to Northbrook, IL.

J-20 [Amended]

From Seattle, WA; Yakima, WA; Pendleton, OR; Donnelly, ID; Pocatello, ID; Rock Springs, WY; Falcon, CO; Hugo, CO; to Lamar, CO. From Will Rogers, OK; Belcher, LA; Magnolia, MS; Meridian, MS; to Montgomery, AL.

* * * * *

J-52 [Amended]

From Vancouver, BC, Canada; Spokane, WA; Salmon, ID; Dubois, ID; Rock Springs, WY; Falcon, CO; Hugo, CO; to Lamar, CO. From Ardmore, OK; Texarkana, AR; Sidon, MS; Bigbee, MS; to Vulcan, AL. From INT Columbia, SC, 042° and Flat Rock, VA, 212° radials; Raleigh-Durham, NC; to Richmond, VA. The portion within Canada is excluded.

* * * * *

J-98 [Amended]

From Mitbee, OK; Will Rogers, OK; Tulsa, OK; Springfield, MO; to Farmington, MO.

* * * * *

J-134 [Amended]

From Los Angeles, CA; Seal Beach, CA; Thermal, CA; Parker, CA; Drake, AZ; Gallup, NM; to Cimarron, NM. From Wichita, KS; Butler, MO; St Louis, MO; to Falmouth, KY.

* * * * *

J-231 [Amended]

From Twentynine Palms, CA; INT Twentynine Palms 075° and Drake, AZ, 262° radials; Drake; INT Drake 111° and St. Johns, AZ, 268° radials; St. Johns; to Anton Chico, NM.

* * * * *

2006 United States Area Navigation Routes.

* * * * *

Q-176 Cimarron, NM (CIM) to OTTTO, VA [Amended]
Cimarron, NM (CIM) | VORTAC | (Lat. 36°29′29.03″ N, long. 104°52′19.20″ W)
KENTO, NM | WP | (Lat. 36°44′19.10″ N, long. 103°05′57.13″ W)
TOTOE, KS | WP | (Lat. 37°02′40.21″ N, long. 100°58′16.87″ W)
WRIGL, KS | WP | (Lat. 37°44′42.79″ N, long. 097°35′02.52″ W)
Butler, MO (BUM) | VORTAC | (Lat. 38°16′19.49″ N, long. 094°29′17.74″ W)
St Louis, MO (STL) | VORTAC | (Lat. 38°51′38.48″ N, long. 090°28′56.52″ W)
GBEES, IN | WP | (Lat. 38°41′54.72″ N, long. 085°10′13.03″ W)
BICKS, KY | WP | (Lat. 38°38′29.92″ N, long. 084°25′20.82″ W)
Henderson, | WV (HNN) DME | (Lat. 38°45′14.85″ N, long. 082°01′34.20″ W)
OTTTO, VA | WP | (Lat. 38°51′15.81″ N, long. 078°12′20.01″ W)

* * * * *

Paragraph 6010(a) Domestic VOR Federal Airways.

* * * * *

V-210 [Amended]

From Los Angeles, CA; INT Los Angeles 083° and Pomona, CA, 240° radials; Pomona; INT Daggett, CA, 229° and Hector, CA, 263° radials; Hector; Goffs, CA; 13 miles, 23 miles 71 MSL, 85 MSL Peach Springs, AZ; Grand Canyon, AZ; Tuba City, AZ; 10 miles 90 MSL, 91 miles 105 MSL Rattlesnake, NM; Alamosa, CO; INT Alamosa 074° and Lamar, CO, 250° radials; 40 miles, 51 miles 65 MSL to Lamar. From Will Rogers, OK; INT Will Rogers 113° and Okmulgee, OK, 238° radials; to Okmulgee. From Brickyard, IN; Muncie, IN; to Rosewood, OH. From Revloc, PA; INT Revloc 096° and Harrisburg, PA, 285° radials; Harrisburg; Lancaster, PA; INT Lancaster 095° and Yardley, PA, 255° radials; to Yardley.

* * * * *

V-234 [Amended]

From St. Johns, AZ; INT St. Johns 085° and Albuquerque, NM, 229° radials; Albuquerque; INT Albuquerque 103° and Anton Chico, NM, 249° radials; Anton Chico; to Dalhart, TX. From Hutchinson, KS; Emporia, KS; Butler, MO; Vichy, MO; INT Vichy 091° and Centralia, IL, 253° radials; to Centralia.

* * * * *

V-350 [Amended]

From Wichita, KS; to Chanute, KS. The airspace at and above 6,000 feet MSL from 8 NM to 54 NM west of Chanute VOR is excluded during the time that the Eureka High MOA is activated.

* * * * *

V-507 [Amended]

From Ardmore, OK; Will Rogers, OK; INT Will Rogers 284° and Mitbee, OK, 152° radials; to Mitbee.

* * * * *

Paragraph 6011 United States Area Navigation Routes.

* * * * *

T-418 Lamar, CO (LAA) to Mitbee, OK (MMB) [New]
Lamar, CO (LAA) | VOR/DME | (Lat. 38°11′49.53″ N, long. 102°41′15.12″ W)
TOTOE, KS | WP | (Lat. 37°02′40.21″ N, long. 100°58′16.87″ W)
Mitbee, OK (MMB) | VORTAC | (Lat. 36°20′37.44″ N, long. 099°52′48.44″ W)
* * * * * * *
T-431 Kento, NM to KNSAS, KS [New]
KENTO, NM | WP | (Lat. 36°44′19.10″ N, long. 103°05′57.13″ W)
TOTOE, KS | WP | (Lat. 37°02′40.21″ N, long. 100°58′16.87″ W)
MOZEE, KS | WP | (Lat. 38°50′51.20″ N, long. 099°16′35.85″ W)
KNSAS, KS | WP | (Lat. 39°48′22.62″ N, long. 098°15′36.62″ W)

Issued in Washington, DC, on June 23, 2022.
Scott M. Rosenbloom,
Manager, Airspace Rules and Regulations.

[FR Doc. 2022-13844 Filed 6-29-22; 8:45 am]

BILLING CODE 4910-13-P